EQUAL EMPLOYMENT OPPORTUNITY COMMISSION

SES Performance Review Board

AGENCY: Equal Employment Opportunity Commission (EEOC).

ACTION: Notice.

SUMMARY: Notice is hereby given of the appointment of members of the EEOC Performance Review Board.

FOR FURTHER INFORMATION CONTACT: Angelica E. Ibarguen, Director, Office of Human Resources, Equal Employment Opportunity Commission, 1801 L Street, NW., Washington, DC 20507, (202) 663-4306.

SUPPLEMENTARY INFORMATION: Pursuant to the requirements of section 4314(c)(1) through (5) of Title 5, U.S.C., notice is given that the following employees will serve as members of the EEOC Performance Review Board: Ms. Angelica E. Ibarguen, Director, Office of Human Resources (Chairperson); Mr. Chester V. Bailey, Director, Milwaukee District Office (Member); Ms. H. Joan Ehrlich, Acting Director, Office of Communications and Legislative Affairs (Member); Ms. Gwendolyn Young Reams, Associate General Counsel for Appellate Services (Member); Mr. Michael Dougherty, Director, State and Local Programs, Office of Field Programs (Member); and Ms. Sallie T. Hsieh, Director, Office of Information Technology (Alternate).

Signed at Washington, DC, on this 7th day of November 2002.
For the Commission.
Cari M. Dominguez,
Chair.

[FR Doc. 02-29163 Filed 11-15-02; 8:45 am]

BILLING CODE 6570-01-M